COMMISSION ON CIVIL RIGHTS

Agenda and Notice of Public Meeting of the Connecticut Advisory

Notice is hereby given, pursuant to the provisions of the rules and regulations of the U.S. Commission on Civil Rights, that a meeting of the Connecticut Advisory Committee to the Commission will convene at 9:00 a.m. and adjourn 12:00 p.m. on April 18, 2001, at the Omni Hotel, 155 Temple Street, New Haven, Connecticut 06510. The purpose of the meeting is to plan for a follow up forum on civil rights issues in Bridgeport and be briefed by community leaders and Federal officials regarding civil rights developments in Bridgeport since May 2000.

Persons desiring additional information, or planning a presentation to the Committee, should contact Committee Chairperson Dr. Neil Macy, 860-242-7287, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, April 6, 2001.
Edward A. Hailes, Jr.,
General Counsel.

[FR Doc. 01-8924 Filed 4-10-01; 8:45 am]

BILLING CODE 6335-01-P